DEPARTMENT OF THE INTERIOR

U.S. Geological Survey

[GX18EE000101100]

National Geospatial Advisory Committee; Public Meeting

AGENCY: U.S. Geological Survey, Interior.

ACTION: Notice of public meeting.

SUMMARY: The U.S. Geological Survey (USGS) is publishing this notice to announce that a public meeting of the National Geospatial Advisory Committee (NGAC) will take place.

DATES: The meeting will be held on Monday, December 11, 2017, from 1:00 p.m. to 4:30 p.m. (Eastern Standard Time).

ADDRESSES: The meeting will be held via web conference and teleconference.

FOR FURTHER INFORMATION CONTACT: Mr. John Mahoney, Federal Geographic Data Committee (FGDC), U.S. Geological Survey (USGS), 909 First Avenue, Suite 800, Seattle, WA 98104; by email at jmahoney@usgs.gov; or by telephone at (206) 220-4621.

SUPPLEMENTARY INFORMATION: This meeting is being held under the provisions of the Federal Advisory Committee Act, 5 U.S.C. Appendix 2. The NGAC provides advice and recommendations related to management of Federal and national geospatial programs, the development of the NSDI, and the implementation of Office of Management and Budget Circular A-16. The NGAC reviews and comments on geospatial policy and management issues and provides a forum to convey views representative of non-federal stakeholders in the geospatial community. The NGAC is one of the primary ways that the FGDC collaborates with its broad network of partners. Additional information about the meeting is available at: www.fgdc.gov/ngac.

Agenda Topics:

—FGDC Update

—Landsat Advisory Group

—Geospatial Technology and Infrastructure

—Geospatial Platform/Data as Services

—Cultural and Historical Geospatial Resources

—NSDI Strategic Plan Framework

Meeting Accessibility/Special Accommodations: The webinar meeting is open to the public. Members of the public wishing to attend the meeting and receive webinar and call-in information should contact Ms. Lucia Foulkes by email at lfoulkes@usgs.gov to register by December 8, 2017. Individuals requiring special accommodations to access the public meeting should contact Ms. Lucia Foulkes at the email stated above or by telephone at 703-648-4142 at least five (5) business days prior to the meeting so that appropriate arrangements can be made.

Public Disclosure of Comments: Time will be allowed at the meeting for any individual or organization wishing to make oral comments. To allow for full consideration of information by the committee members at the meeting, written comments must be provided to Ms. Lucia Foulkes, Federal Geographic Data Committee (FGDC), U.S. Geological Survey, 12201 Sunrise Valley Drive, MS-590, Reston, VA 20192; by email at lfoulkes@usgs.gov; or by telephone at 703-648-4142, by December 8, 2017. All comments received will be provided to the committee members.

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Kenneth Shaffer,
Deputy Executive Director, Federal Geographic Data Committee.

[FR Doc. 2017-25375 Filed 11-22-17; 8:45 am]

BILLING CODE 4338-11-P